DEPARTMENT OF COMMERCE

Economic Development Administration

[Docket No.: 080125088-8090-01]

Program Announcement for the Trade Adjustment Assistance for Firms Program

AGENCY: Economic Development Administration (EDA), Department of Commerce.

ACTION: Notice.

SUMMARY: EDA's mission is to lead the federal economic development agenda by promoting innovation and competitiveness, preparing American regions for growth and success in the worldwide economy. As part of this mission, EDA administers the Trade Adjustment Assistance for Firms (TAAF) Program under the Trade Act of 1974, as amended, through a national network of eleven Trade Adjustment Assistance Centers (each, a TAAC) to provide technical assistance to firms that have lost domestic sales and employment due to increased imports of similar or competitive goods. This program announcement applies only to the current eleven EDA-funded TAACs, and provides information necessary to clarify the requirements for operating and providing technical assistance to trade-impacted firms as a TAAC under a cooperative agreement with EDA for fiscal years 2008-2010. This notice does not solicit new applications for TAAC operators.

DATES: A current TAAC that wishes to apply for federal financial assistance for the three-year project period for fiscal years 2008-2010 must submit an application to EDA at least 30 days before the expiration date of the TAAC's 2005-2007 cooperative agreement. EDA will amend currently active cooperative agreements as necessary to ensure that each TAAC that wishes to apply will have at least 30 days to complete the application requirements set out in this program announcement. EDA's TAAF Program Officer will hold a teleconference during the week of February 11, 2008 for all current TAACs to address questions about this program announcement. The exact date, time, registration requirements, and protocols for the call will be announced to all participants in advance of the teleconference.

ADDRESSES: Applications for federal financial assistance may be submitted in either paper format or electronic format, in accordance with the procedures provided in this program announcement. The content of the application is the same for both paper and electronic submissions. EDA will not accept facsimile transmissions of applications.

The eleven TAACs may obtain paper application packages by contacting the designated point of contact listed below under FOR FURTHER INFORMATION CONTACT or by downloading the required forms from EDA's Web site at www.eda.gov/InvestmentsGrants/Preapp.xml.

Paper Submissions: A complete, signed original application may be sent via postal mail, shipped overnight or hand-delivered to EDA headquarters at the following address: William P. Kittredge, Ph.D., Program Officer, U.S. Department of Commerce, Economic Development Administration, 1401 Constitution Avenue, NW., Room 7009, Washington, DC 20230.

Electronic Submissions: A complete, electronically signed original application may be e-mailed to taac@eda.doc.gov with the subject line “[Insert full name of TAAC] FY 2008 application.”

FOR FURTHER INFORMATION CONTACT: For additional information or for a paper copy of the application package, please contact William P. Kittredge, Ph.D., Program Officer, at taac@eda.doc.gov or at 202-482-4122.

SUPPLEMENTARY INFORMATION: Program Information: EDA's mission is to lead the federal economic development agenda by promoting innovation and competitiveness, preparing American regions for growth and success in the worldwide economy. One of EDA's economic development tools is the TAAF Program under the Trade Act of 1974, as amended (19 U.S.C. 2341—2355, 2391) (Trade Act). The goal of the TAAF Program is to identify firms that have been negatively impacted by import competition and assist these firms to become competitive in the global economy, thereby creating or retaining domestic jobs.

Each TAAC is staffed by trade adjustment assistance professionals that help U.S. production and manufacturing firms apply for certification under the Trade Act. The TAAC assists the firm in completing and submitting to EDA a petition for certification of eligibility. If EDA determines that the firm meets the eligibility criteria for technical assistance under the Trade Act and approves the petition, the TAAC then works closely with the certified client-firm to diagnose the firm's strengths and weaknesses, develop an adjustment proposal (AP) to address those strengths and weaknesses, and implement the AP. As required by the statute, an AP must: (1) Be reasonably calculated to contribute materially to the economic adjustment of a client-firm; (2) give adequate consideration to the interests of the workers of the client-firm; and (3) demonstrate that the client-firm will make all reasonable efforts to use its own resources for economic development. The adjustment assistance identified in the AP must consist of specialized consulting services designed to assist the firm in becoming more competitive in the global marketplace. For this purpose, adjustment assistance generally consists of knowledge-based services such as market penetration studies, customized business improvements, and designs for new products. Adjustment assistance does not include expenditures for capital improvements or for the purchase of business machinery or supplies.

This program announcement is intended to provide information and clarify the operational requirements for the current eleven EDA-funded TAACs. The cooperative agreements associated with fiscal years 2005-2007 for the current TAACs will expire this year and, therefore, this program announcement sets out important elements that will be included in each TAAC's cooperative agreement for fiscal years 2008-2010, subject to funding availability.

A current TAAC that wishes to apply for federal financial assistance for the three-year project period for fiscal years 2008-2010 must submit an application to EDA at least 30 days before the expiration date of the TAAC's 2005-2007 cooperative agreement. EDA will amend currently active cooperative agreements as necessary to ensure that each TAAC will have at least 30 days to complete the application requirements set out under this program announcement.

The current TAACs and the States they serve are:

TAAC | States served
Great Lakes TAAC | Indiana, Michigan, and Ohio
Mid-America TAAC | Arkansas, Kansas, Missouri
Mid-Atlantic TAAC | Delaware, District of Columbia, Maryland, New Jersey, Pennsylvania, Virginia, and West Virginia
Midwest TAAC | Illinois, Iowa, Minnesota, and Wisconsin
New England TAAC | Connecticut, Maine, Massachusetts, New Hampshire, Rhode Island, and Vermont
New York State TAAC | New York
Northwestern TAAC | Alaska, Idaho, Montana, Oregon, and Washington
Rocky Mountain TAAC | Colorado, Nebraska, New Mexico, North Dakota, South Dakota, Utah, and Wyoming
Southeastern TAAC | Alabama, Florida, Georgia, Kentucky, Mississippi, North Carolina, South Carolina, and Tennessee
Southwest TAAC | Louisiana, Oklahoma, and Texas
Western TAAC | California, Arizona, Nevada, and Hawaii

Electronic Access: The complete TAAF program announcement is available at www.eda.gov.

Funding Availability: Currently, the TAAF Program is fully funded and at capacity with eleven TAACs providing technical assistance to trade-impacted firms throughout the nation. This program announcement merely clarifies the operating principles and administrative and procedural requirements applicable to the TAAF Program. Future funding for the TAAF Program under this program announcement depends upon the availability of funds appropriated for the Program.

Statutory Authority: The specific authority for the TAAF Program is chapters 3 and 5 of Title II of the Trade Act, which authorizes EDA to administer the Program through the TAACs. EDA's regulations at 13 CFR Part 315 set forth the general and specific regulatory requirements applicable to the TAAF Program. EDA's regulations and the Trade Act are accessible on EDA's Internet Web site at www.eda.gov/InvestmentsGrants/Lawsreg.xml.

Catalog of Federal Domestic Assistance (CFDA) Number: 11.313, Trade Adjustment Assistance for Firms.

Eligibility: The TAAF Program currently is administered through a national network of eleven TAACs. As set out at 13 CFR 315.4, a TAAC may be a university affiliate, State or local government affiliate, or nonprofit organization.

Project Period: EDA administers the TAAF Program by entering into cooperative agreements with each TAAC for a three-year project period. Once funded, a TAAC is not required to compete for the second and third years of funding, providing that performance is satisfactory (as determined by EDA). Funding beyond the initial year of the project period also is subject to the availability of funds. Carryover funds and program income earned in one year may be carried over and used to carry out eligible activities in a subsequent year throughout the three-year project period. At the conclusion of the third year of the project period, each TAAC has 90 days to submit final vouchers for reimbursement related to eligible activities funded prior to expiration of the project period. The maximum amount awarded by EDA under a cooperative agreement is for expenditures related to the TAAC's scope of work.

Cost Sharing Requirement: EDA may fund up to 100 percent of TAAC operations. See section 253(b)(3) of the Trade Act (19 U.S.C. 2343). Once a firm is certified to receive assistance from a TAAC under the TAAF Program, the client-firm must pay at least 25 percent of the cost of preparing its AP. A client-firm that requests $30,000 or less in total assistance to implement an approved AP must pay at least 25 percent of the cost of that assistance. A client-firm that requests more than $30,000 in total assistance in its approved AP must pay at least 50 percent of the cost of that assistance. General cost limitations on APs are set out below in section VI.C. Limitations on assistance provided through an AP specific to a particular TAAC will be set out in the cooperative agreement between EDA and the TAAC. See 13 CFR 315.6(c)(2).

Intergovernmental Review: Applications for funding under the TAAF Program are not subject to the State review requirements imposed by Executive Order 12372, “Intergovernmental Review of Federal Programs.”

Current TAAC Evaluation: EDA generally evaluates currently funded TAACs based on:

(1) Performance under cooperative agreements with EDA and compliance with the terms and conditions of such cooperative agreements;

(2) Proposed scope of work, budget and application or amended application; and

(3) Availability of funds.

See 13 CFR 315.5(c)(1).

New TAAC Evaluation: If EDA determines that it is necessary to select a new TAAC to provide assistance under the TAAF Program (for example, if a currently funded TAAC does not timely provide an application per the requirements of this program announcement), EDA generally evaluates new TAACs based on:

(1) Competence in administering business assistance programs;

(2) Background and experience of staff;

(3) Proposed scope of work, budget and application; and

(4) Availab3ility of funding.

See 13 CFR 315.5(c)(2).

Content and Form of Application Submissions

General Requirements: A complete application to provide assistance as a TAAC for the 2008-2010 project period consists of Forms SF-424, “Application for Federal Assistance;” SF-424A, “Budget Information—Non-Construction Programs;” SF-424B, “Assurances—Non-Construction Programs;” CD-512, “Certification Regarding Lobbying Lower Tier Covered Transactions;” all supporting documentation required by these forms; a project narrative; and a detailed budget narrative. All information submitted by a TAAC in an application for funding shall be accurate and based on the most current data available for the TAAC's service region.

TAACs interested in applying for continued funding are advised to carefully read the instructions contained in this program announcement and on the application forms. The applicant TAAC is solely responsible for ensuring that applications are complete and timely received by EDA. Applications may be submitted either in paper format or electronically.

EDA will evaluate applications consistent with the application review information set forth in this program announcement. A completed application must contain all the items listed in the “Checklist of Application Materials” set out below.

Checklist of Application Materials

Project Narrative

Cover Page

Section 1. Organizational History and Capability

Section 2. Service Region, Needs of Service Region, and Target Audience

Section 3. Scope of Work and Anticipated Impacts and Benefits

Budget and Budget Narrative

Budget Narrative (for each year of the award period)

Staffing Plan

Resumes of Key Project Staff

Standard Forms (SF) and Department of Commerce (CD Forms)

Form SF-424, Application for Federal Assistance (The list of certifications and assurances referenced in Item 21 of Form SF-424 is contained in Form SF-424B.)

Form SF-424A, Budget—Non-Construction Programs (for each year of the project period)

Form SF-424B, Assurances—Non-Construction Programs

Form SF-LLL, Disclosure of Lobbying Activities (if applicable) (Form SF-LLL can be accessed at EDA's Internet Web site at www.eda.gov and at www.whitehouse.gov/omb/grants/grants_forms.html.)

Form CD-511, Certification Regarding Lobbying (Form CD-511 can be accessed at the Department of Commerce's Forms Management Internet Web site at http://ocio.os.doc.gov/ITPolicyandPrograms/Electronic_Forms/index.htm.)

Project Narrative. The Project Narrative must provide both an overall three-year operational plan and scope of work for the entire fiscal years 2008 through 2010 project period, and a detailed operational plan and scope of work for the initial year of the project period. For each subsequent year of the project period, each TAAC will execute an amendment to the cooperative agreement and submit an updated Project Narrative that reflects changes to and trends within the TAAC's service region. The Project Narrative must provide for a three-year scope of work and a timeline for project implementation during the three-year project period. The Project Narrative must include the following items, which should be presented to EDA in the following format:

Cover Page

Section 1. Organizational History and Capability

a. Overview. Briefly state the purpose of the submission and the TAAC's federal funding request and proposed matching funds, if applicable.

b. Organization and Staffing. Submit a staffing plan listing all positions that will be charged to the federal and non-federal (if applicable) portion of the budget for each project year. The staffing plan must include position titles, maximum annual salaries, and the total amount of annual salaries that will be charged to the TAAF Program. The total amount of annual salaries that will be charged to the Program must be consistent with the amount reflected on the “Personnel” budget line-item (found in “Section B—Budget Categories” of Form SF-424A) for each project year. In addition, identify each TAAC employee, describe their specific role with reference to TAAC operations, and provide a brief overview of each employee's most pertinent experience. In addition, the resume, curriculum vitae, or other statement of qualifications for each employee must be included as an attachment. If the TAAC plans to hire employees during the project period, provide a staffing plan for filling any vacancies or new positions.

c. History and Accomplishments. Provide a narrative overview of the history of the TAAC and the TAAC's accomplishments in providing assistance to import-impacted firms under past cooperative agreements with EDA. Discuss the TAAC's capacity and experience in providing assistance under the TAAF Program.

d. Organizational Form or Affiliated or Sponsoring Institution, if applicable. Detail the organizational context in which the TAAC will provide technical assistance under the TAAF Program. If the TAAC is affiliated with another entity, such as a university or a nonprofit, include the TAAC's placement within the organizational structure of that entity and explain how this affiliation may impact the cooperative agreement with EDA and the provision of assistance to import-impacted firms.

Section 2. Service Region, Needs of Service Region, and Target Audience

a. Definition of Service Region. Define the TAAC's geographic service region.

b. Existing Conditions within Service Region. Detail the economic development needs, issues, and opportunities of the TAAC's service region, focusing on import-impacted industries and firms.

c. Target Firms and Industries. Identify target import-impacted firms and industries within the TAAC's geographic service region.

d. Presentation. Maps and other graphic representations that accurately portray the current condition of the TAAC's service region are welcome and encouraged.

e. Accuracy and Timeliness of Information. All information presented in the application must be pertinent, accurate and current. This section in particular must contain accurate data and estimates provided by the Bureau of Economic Analysis, the U.S. Census Bureau, or other similar governmental agency that compiles socioeconomic data that is current as of the date of the application. Additional pertinent, accurate and current data, information, analyses and estimates from reputable non-governmental sources may also be provided, but such data cannot serve as a substitute for governmental data. Since the goal of the TAAF Program is to address the existing conditions of import-impacted firms, the use of outdated data is not acceptable and will be considered nonresponsive. If an application contains out-of-date data, EDA may reject the application and choose to re-solicit applications on a competitive basis.

Section 3. TAAC Business Plan and Anticipated Impacts and Benefits

Outline the scope of work to be undertaken by the TAAC during the three-year project period. This section must be organized into the following five elements: (i) TAAC program management; (ii) TAAC business plan; (iii) timeline and benchmarks for program implementation; (iv) TAAC outreach strategy; and (v) plan to coordinate with Trade Adjustment Assistance Programs operated by the Department of Labor (DOL) to provide the most value to firms and maximize the benefit of each federal dollar. Pertinent details on the above-listed elements of the TAAC's scope of work are set out below.

a. TAAC Program Management. Provide a plan for the TAAC's overall fiscal and TAAF Program management to ensure the TAAC's accountability for federal funds. In general, TAACs use federal funds to enter into contracts to meet the needs of client-firms. Therefore, this plan must include the TAAC's procurement code of conduct and procedures. Recipients of federal assistance that are institutions of higher education, hospitals, and other nonprofit and commercial organizations must have:

(i) Written standards of conduct governing the performance of its employees engaged in the award and administration of contracts; and

(ii) Written procurement procedures. See 15 CFR 14.42 and 14.44 for more information on these requirements.

b. TAAC Business Plan. Describe how the TAAC plans to provide assistance to import-impacted firms and how the TAAC plans to partner or coordinate with other organizations to provide effective assistance and leverage federal dollars.

c. Timeline and Benchmarks for Program Implementation. Provide a three-year timeline for Program implementation, which includes significant milestones and accomplishments. The TAAC also must submit a timeline for the initial year of the project period detailing over the course of that year the activity, timeline, and benchmarks for the implementation of the TAAF Program. This initial year timeline must include the current status of any pending certifications, APs, or other client-firm assistance; the projected number of firms that the TAAC will contact; the projected number of petitions for certification that the TAAC will submit for EDA approval; the projected number of APs that will be submitted for EDA's approval; the projected number of projects that will be proposed in APs; and the number of projects that the TAAC anticipates client-firms will complete. These projections should be based on the TAAC's analysis of need in its geographic service region and its experience operating the TAAF Program.

d. TAAC Outreach Strategy. Detail how the TAAC will provide information about assistance services in the TAAC's geographic service region. Examples of TAAC information and literature provided to potential client-firms and other outreach strategies are welcome and encouraged.

e. Plan for Coordination with DOL. Detail how the TAAC will coordinate with Trade Adjustment Assistance Programs operated by DOL under the Trade Act to provide comprehensive assistance to import-impacted firms and employees, avoid duplicative effort, and maximize federal dollars.

Budget and Budget Narrative. Applicants must submit a separate budget on Form SF-424A and a budget narrative for each year of the three-year project period. The budget must include columns reflecting the federal, non-federal cash, non-federal in-kind (if applicable) and total amounts allocated to each budget line-item for each project year. Applicants should use the budget categories identified in “Section B—Budget Categories” of Form SF-424A, with sub-categories and explanations as necessary. The allowability of costs incurred depends upon the classification of the TAAC and is determined in accordance with the requirements set out in 2 CFR Part 220, “Cost Principles for Educational Institutions (OMB Circular A-21);” 2 CFR Part 225, “Cost Principles for State, Local, and Indian Tribal Governments (OMB Circular A-87);” or 2 CFR Part 230, “Cost Principles for Non-Profit Organizations (OMB Circular A-122),” as applicable. Generally, allowable costs include salaries, supplies, and other expenses that are reasonable and necessary for successful completion of the scope of work.

1. Budget Narrative. The budget for each year must include a brief narrative describing each budget line-item. For budget planning purposes, applicant TAACs should assume flat funding for the three-year project period.

2. Facilities and Administrative Costs. If indirect or facilities and administrative costs (replacing the term “indirect costs” for institutions of higher education) are included in the budget, the applicant must include a copy of its current Indirect or Facilities and Administrative Cost Rate Agreement or documentation applying for an Indirect or Facilities and Administrative Cost Rate Agreement. Applicants that do not have a current Indirect or Facilities and Administrative Cost Rate Agreement negotiated and approved by the Department of Commerce (or by the applicable cognizant federal agency) may propose indirect or facilities and administrative costs in their budget. However, any TAAC without a currently approved Indirect or Facilities and Administrative Cost Rate Agreement must prepare and submit an indirect or facilities and administrative cost allocation plan and rate proposal as required by 2 CFR Part 220 (OMB Circular A-21), 2 CFR Part 225 (OMB Circular A-87), or 2 CFR Part 230 (OMB Circular A-122), as applicable. The allocation plan and the rate proposal must be submitted to the Department of Commerce's Office of Acquisition Management (or applicable cognizant federal agency) within 90 days from the award start date.

The maximum dollar amount of allocable indirect or facilities and administrative costs for which EDA will reimburse a recipient shall be the lesser of the:

(i) Line-item amount for the federal share of indirect or facilities and administrative costs contained in the EDA-approved budget for the award; or

(ii) federal share of the total allocable indirect or facilities and administrative costs of the award based on the cost rate approved by the Department of Commerce (or applicable cognizant federal agency), provided that the cost rate is current at the time the costs were incurred and provided that the rate is approved on or before the award end date. See Paragraph 5 (Indirect Costs) of the Department of Commerce Pre-Award Notification Requirements for Grants and Cooperative Agreements (69 FR 78389).

The TAAC should include a statement in the budget narrative indicating whether it does not have, or has not applied for, an Indirect or Facilities and Administrative Cost Rate Agreement.

3. Program Income. If the operation of the TAAC is expected to generate “program income” (as defined in 15 CFR 14.24 or 24.25, as applicable), such amounts must be accounted for in the project budget and must be added to those budget line-items pertaining to direct Program delivery.

Program Requirements for TAACs

The TAACs are advised to carefully read the following paragraphs that detail programmatic and administrative requirements to be included in each TAAC's fiscal years 2008-2010 cooperative agreement with EDA. Some of the requirements set out below are currently required of TAACs and some are new requirements.

Petitions for Certification of Eligibility.

1. Petition for Certification Template. Petitions for certification of eligibility must be made by completing and submitting Form ED-840P, which will be provided to TAACs as a portable document format (PDF) document. The TAAF Program Worksheet also is attached as Exhibit C to this program announcement. EDA strongly encourages TAACs to complete and submit the TAAF Program Worksheet along with each petition for certification. The worksheet is formatted as a fillable PDF document, and will help EDA expedite the TAAC's petitions.

2. Submission of Petitions. All TAAF Program documentation and submissions must be made electronically. Petitions for certification must be submitted to EDA's TAAF mailbox at taac@eda.doc.gov in PDF format. Each petition shall include all information needed for EDA to assess the petition. Each PDF document included in a petition must use a descriptive file name that includes both the name of the TAAC and the name of the petitioning firm.

3. Employment Data. Each TAAC shall require any firm applying for certification to retrieve and submit the most currently available documentation of the firm's required quarterly employee contribution to social security and Medicare under the Federal Insurance Contributions Act (FICA) or the Self-Employment Contributions Act so that the TAAC and EDA can confirm the firm's level of employment. This documentation must be scanned or saved electronically and included in each firm's petition for certification.

4. Customer Interviews. To help evaluate whether a firm has been trade-impacted, the firm must provide a list of four important current or recent customers. Each TAAC must interview at least two of these customers to determine if and why each customer has decreased purchases from the firm. A synopsis of each customer interview conducted in the course of a firm petition, whether or not the customer has adjusted its purchasing patterns because of import competition, must be included in the petition. The synopsis shall include all information necessary for EDA to make the statutory findings that imports contributed importantly to the decline in employment and sales or production (e.g., what factors affected the amount of purchases the customer made from the firm, whether the customer is purchasing imported products in lieu of the firms products, and the length of time the customer has been purchasing imported products).

5. The TAAC Director's Certification of Customer Interviews. Each TAAC Director is responsible for ensuring that the representations made in a certification petition are complete and accurate to the best knowledge of the TAAC and must certify to that effect. Failure to exercise due diligence to ensure that a firm's representations are accurate constitutes a material breach of the TAAC's cooperative agreement with EDA. EDA will issue a deficiency memorandum to a TAAC each time the TAAC submits a certification with inaccurate or inadequate information. See the paragraph below for more information on EDA's consideration of deficiency memoranda.

Adjustment Proposals: The AP is the tool through which a client-firm should begin to reestablish competitive advantage. Each AP is to be developed by the TAAC in consultation with and submitted on behalf of a client-firm. Each AP shall contain sufficient information and detail to allow EDA to make the determination that the AP:

(i) Is reasonably calculated to contribute materially to the economic adjustment of the client-firm (i.e., that such proposal will constructively assist the firm to establish a competitive position in the same or a different industry);

(ii) Gives adequate consideration to the interests of a sufficient number of separated workers of the client-firm; and

(iii) Demonstrates that the client-firm will make all reasonable effort to use its own resources for its recovery. See 13 CFR 315.16.

1. AP Template. The AP template and accompanying instructions are included in this program announcement as Exhibit D. While each AP must be tailored to the specific needs of the client-firm, the template will provide a standard format to help TAACs and contractors produce APs that effectively assist firms and meet EDA requirements. EDA strongly encourages TAACs and contractors to use the AP template in providing assistance to firms. The template is formatted as a fillable PDF document and it will assist EDA Program staff to expeditiously review APs.

2. Submission of APs. All APs must be submitted electronically to EDA as a single PDF document at taac@eda.doc.gov. The PDF document must include all information needed for EDA to evaluate the AP.

3. Assistance Cost Limits. As noted above under “Cost Sharing Requirement,” a client-firm must pay at least 25 percent of the cost of the preparation of its AP. A client-firm that requests $30,000 or less in total assistance to implement an approved AP must pay at least 25 percent of the cost of that assistance. A client-firm that requests more than $30,000 in total assistance in its approved AP must pay at least 50 percent of the cost of that assistance. The total amount of assistance provided to a client-firm in an AP is generally limited to $150,000 ($75,000 EDA funds and $75,000 client-firm funds). Assistance that exceeds this limit may be provided only with EDA's prior written approval. Limitations specific to a particular TAAC will be set out in the cooperative agreement between EDA and the TAAC. Also, the procurement agreement among the TAAC, the client-firm, and the contractor providing assistance should describe clearly applicable cost limitations. See 13 CFR 315.6(c)(2).

4. Procurement of Assistance under APs. Each TAAC must have written procurement procedures. These procedures must require, in part, that solicitations for services, including services to create or implement an AP, must include:

a. A clear and accurate description of the technical requirements for the material, product, or service to be procured. In competitive procurements, such a description shall not contain features which unduly restrict competition;

b. Requirements that the bidder/offeror must fulfill and all other factors to be used in evaluating bids or proposals;

c. A description, whenever practicable, of technical requirements in terms of functions to be performed or performance required, including the range of acceptable characteristics or minimum acceptable standards;

d. The specific features of “brand name or equal” descriptions that bidders are required to meet when such items are included in the solicitation;

e. The acceptance, to the extent practicable and economically feasible, of products and services dimensioned in the metric system of measurement; and

f. Preference, to the extent practicable and economically feasible, for products and services that conserve natural resources and protect the environment and are energy efficient.

5. Sole-Sourcing of AP Projects. As required by federal acquisition regulations, a TAAC shall select contractors providing services under an AP via an open bid process that the TAAC ensures is free from conflicts of interest.

Each TAAC shall maintain a list of each contractor that produces, consults, provides services under, receives federal funds through, or is any way involved in the creation or implementation of an AP for a client-firm. The TAAC shall provide EDA with this list on request. The identity of each contractor that produces, consults on, provides services under, receives federal funds through, or is in any way involved in the creation or implementation of an AP must be disclosed and easily identifiable on the document. As noted above, all APs must be submitted to EDA electronically. Identification of consulting firms shall include Employer Identification Numbers (EINs) and Data Universal Number System (DUNS) numbers.

If the procurement of services to create or implement an AP exceeds $100,000 (the current simplified acquisition threshold), the TAAC shall, on request, make available for EDA pre-award review and procurement documents, such as the requests for proposals or invitations for bids and independent cost estimates. EDA may ask the TAAC to make available information about its procurement practices if the procurement was awarded without competition or if only one bid or offer was received in response to a solicitation or if a proposed contract modification changed the scope of a contract or increased the contract amount by more than $100,000. See 15 CFR 14.40-14.48 or 24.36, as applicable, for more information on these requirements.

6. Implementation of and Changes to APs. APs should be designed to address a client-firm's current conditions so that the firm can better compete in the future. To ensure that approved APs are effective tools for economic recovery, the firm should begin implementing the AP expeditiously, generally within six months of EDA's approval, subject to the availability of funds. Each TAAC is responsible for facilitating its client-firms' implementation of their APs and providing as much assistance as possible. If active steps towards implementing an approved AP, as determined by EDA, are not taken within six months of EDA's approval, the TAAC must provide an explanation of the delay to EDA. Each TAAC must monitor client-firms' implementation of APs and provide updates on implementation in the TAAC's regular report to EDA. However, in accordance with Department of Commerce regulations, TAACs may not charge a fee for such monitoring. See the paragraph below on the prohibition on charging a monitoring fee. The following are details on allowable adjustments to APs:

a. Amended APs. If a certified firm does not satisfactorily demonstrate progress toward implementing its approved AP within six months of approval, EDA will assume the projects contained in the approved AP are no longer current and it will be the firm's fiscal responsibility to either amend the AP by updating it, or to demonstrate to EDA that the projects in the AP continue to meet the firm's current needs and will meet the AP criteria as set out at 13 CFR 315.16(c); and

b. Revised APs. If EDA approves an AP for a certified firm that has a total cost that is less than the maximum amount of assistance set out in the cooperative agreement between EDA and the TAAC, and the firm successfully implements or demonstrates progress towards implementing its AP, the TAAC, with EDA's prior written approval, may revise it by adding projects to the AP up to the maximum amount of assistance as set out in the cooperative agreement between EDA and the TAAC.

7. Prohibition on Monitoring Fees Charged by a TAAC. TAACs frequently subcontract with third parties to provide services under APs. Department of Commerce award recipients are responsible for monitoring subcontractor performance. See 15 CFR 14.51 or 24.40, as applicable. A TAAC may not assess a fee under the award or otherwise attempt to generate program income via any other charge or fee for monitoring contractor performance. In addition, a TAAC may not assess either client-firms or EDA a fee for monitoring client-firm progress in implementing an AP. See 15 CFR 14.51 or 24.40, as applicable, and 13 CFR 315.6(c)(2), which sets out matching share requirements to be paid by client-firms for the preparation of APs. Except as provided in paragraph 3 of this section (“Assistance Cost Limits”) above, TAACs may not assess fees in connection with the program.

8. Firms' Responsibility to Implement APs. Certified firms have five years from the date of EDA's approval of an AP to complete work on that AP. Generally, EDA will not consider requests to implement an AP beyond five years from the date of EDA's approval of the AP. Any request for an extension beyond five years must demonstrate an exceptional need and justifiable extenuating circumstances for the delay.

Program Performance Assessment: EDA will assess program performance to ensure that the TAAF Program accomplishes its purposes and that federal funds are put to their most productive use. EDA will evaluate each TAAC using the following criteria to help determine the funding level for the TAAC's funding periods within a project period.

1. Quality of TAAC Submissions. TAAC Directors are responsible for the quality of submissions to EDA. All submissions should be timely, proof-read, complete, and accurate, and should not cause EDA to undertake additional background work to assess the quality and validity of the information submitted.

2. Deficiency Citations. EDA will issue a deficiency memorandum whenever it determines that a petition, AP, or other TAAC submission is not timely, proof-read, complete, accurate, or otherwise causes EDA to undertake additional background work to assess the quality and validity of the information submitted. The number and substance of deficiency memoranda issued to a TAAC during each year of the TAAC's project period will be considered when EDA assesses the TAAC's performance and will have an impact upon TAAC funding for subsequent project periods. If repeated or major deficiencies are identified through EDA's assessment of the quality of the TAAC's submissions, EDA will take steps to protect the federal interest under the award, including suspension and termination.

3. Services to Client-Firms. EDA must ensure that funds appropriated to assist trade-impacted firms are put to their highest and best use. To that end, EDA will examine the percentage of the total amount awarded to each TAAC that is delivered to firms as client services. EDA will notify each TAAC of the target percentage. Percentages higher than the target indicate that the TAAC should re-evaluate its expenditure of award funds.

4. Collaboration. EDA will examine evidence of the TAAC's collaboration with DOL Trade Adjustment Assistance Programs to ensure that both EDA and DOL funds are leveraged to the maximum extent possible.

5. Firm Survey. Following the completion and delivery of an AP to a client-firm and the implementation of each project or service proposed in an approved AP, the TAAC will provide the firm with a survey to help assess the effectiveness of and the firm's satisfaction with the assistance provided. EDA will provide this survey to the TAACs, and will review service delivery periodically based in part on this survey.

Financial Management

1. TAAC Budget. The budget is the financial expression of the TAAC's planned program execution. The TAAC's budget is submitted on the Form SF-424A, “Budget Information—Non-Construction Programs,” both for an original award (i.e., a three-year project period) and for each amendment to the original award.

2. Changes to the TAAC Budget. A TAAC shall not transfer funds across direct cost categories if the federal share of the project exceeds $100,000 and the cumulative amount of such transfers exceeds 10% of the total federal and non-federal amount of the award. In addition, a TAAC must receive EDA's written approval if the transfer implicates a change in project scope or objective or if the transfer is of amounts budgeted for indirect costs to absorb increases in direct costs, or vice versa. See 15 CFR 14.25 or 24.30, as applicable.

3. Payment. A TAAC may request an advance or reimbursement of award funds from EDA to cover costs incurred in providing assistance to client-firms and to pay for reasonable and necessary TAAC administrative expenses. Department of Commerce regulations authorize EDA to advance funds to a TAAC as long as the TAAC maintains:

a. Written procedures that minimize the time elapsing between the transfer of funds to and the disbursement by the TAAC; and

b. Financial management systems that meet the standards for fund control and accountability set out at 15 CFR 14.21.

Advances are limited to the minimum amounts needed for project costs and must be timed in accordance with the actual, immediate cash requirements of the TAAC in carrying out project needs. The timing and amount of advances shall be as close as is administratively feasible to the actual disbursement by the TAAC for direct project costs and the proportionate share of allowable indirect costs.

The TAAC must submit each request for award funds to EDA using Form SF-270, “Request for Advance or Reimbursement,” in accordance with these requirements. Each request shall be sufficient to meet the TAAC's reasonably anticipated needs for the upcoming 30 days or to cover the TAAC's expenditures for the most recently past 30 days, if the TAAC receives a reimbursement of award funds. If the TAAC does not meet the Department of Commerce's requirements for advance payment of award funds, EDA may decide to make payments solely through reimbursement. See 15 CFR 14.22 or 24.21, as applicable.

4. Supporting Documentation for Requests for Advances or Reimbursements. Pursuant to EDA's duty of responsible stewardship over federal funds, if EDA has reasonable concerns regarding a TAAC's submitted Form SF-270, EDA may request the TAAC to submit an expense report with supporting documentation that fully explains the TAAC's request for an advance or reimbursement. The report shall be in the same format as the budget submitted as the TAAC's controlling budget, and shall show the original budget, the budget for the upcoming 30 days for which the advance is requested, and expenses incurred year to date. EDA is in the process of developing an expense report template to provide to each TAAC.

5. Financial Reporting. Each TAAC shall submit Form SF-269, “Financial Status Report,” to EDA quarterly to report the status of unreimbursed obligations. This report will provide information on the amount of allowable project expenses that have been incurred, but not claimed for reimbursement by the recipient.

When EDA advances funds to a TAAC, the TAAC also must submit Form SF-272, “Report of Federal Cash Transactions,” to EDA quarterly to monitor advances to a disbursement by the TAAC. EDA may require the TAAC to forecast federal funds requirements in the “Remarks” section of the report. When practical and deemed necessary, EDA also may require the TAAC to report on advances received in excess of three days and provide short narrative explanations on actions taken by the TAAC to reduce excess balances in the “Remarks” section of the SF-272.

The first submission of Forms SF-269 and SF-272, if applicable, shall be as of March 30 of each year and shall be submitted to EDA no later than April 30 of each year; the second report shall be as of June 30 of each year and shall be submitted to EDA not later than July 30 of each year; the third report shall be of September 30 and shall be submitted to EDA not later than October 30 of each year; and the fourth report shall be of December 30 of each year and shall be submitted to EDA no later than January 30 of the following year. EDA may require TAACs that receive advances totaling $1 million or more per year to submit Form SF-272 on a monthly basis. See 15 CFR 14.52 or 24.41, as applicable.

6. End-of-Year Submission of Budget. Within 90 days of the end of the TAAC's annual funding period under its award, the TAAC shall submit an analysis of the TAAC's prior year budget as planned versus implemented that clearly identifies, justifies, and explains any differences between planned costs and actual costs, any transfers among cost categories, and any other changes that took place during the year.

7. Audit Requirements. Organization-wide or program-specific audits shall be performed in accordance with the Single Audit Act Amendments of 1996, as implemented by OMB Circular A-133, “Audits of States, Local Governments, and Non-Profit Organizations,” and the related “Compliance Supplement.” TAACs typically expend federal awards of $500,000 or more in a fiscal year and thus are required to have an audit conducted for that year in accordance with the requirements contained in OMB Circular A-133. Each TAAC associated with a university is responsible for instructing the auditor to address the operations and controls of the sponsored programs or similar university office. Audit findings shall specifically address the operations and controls of the sponsored programs or similar office of the university.

A copy of the audit must be submitted to the Bureau of the Census at the following address: Federal Audit Clearinghouse, 1201 E. 10th Street, Jeffersonville, IN 47132. In addition, each TAAC must submit the TAAC's currently valid audit required under OMB Circular A-133 to EDA headquarters within 30 days of completion of the audit. The address for OMB Circular A-133 audit submissions is: Department of Commerce, Economic Development Administration, William P. Kittredge, Ph.D., 1401 Constitution Avenue, NW., Room 7009, Washington, DC 20230.

TAAC Administrative Requirements: Each TAAC will maximize coordination with the other TAACs and relevant organizations to avoid duplication of services offered by other organizations. Additionally, TAACs shall adhere to the minimum administrative guidelines detailed below. In reviewing performance, EDA will evaluate the TAACs on their adherence to these guidelines as well as their performance in assisting firms, since TAAC administration is key to effective firm assistance. The Director of each TAAC is expected to ensure compliance with these guidelines.

1. TAAC Operation and Management. TAACs provide assistance to a wide range of production and manufacturing firms experiencing difficulty in adjusting to the global marketplace. These firms provide jobs and capital that are vital to State, local, and national economic well-being. Therefore, each TAAC is expected to be managed professionally and to be capable of responding flexibly to client-firms.

a. Forty-Hour Customary Workweek. For each week of the calendar year, each TAAC shall be open to the public during workdays and hours customary to each TAAC's geographic service region, for not less than a 40-hour, Monday through Friday workweek. Each TAAC Director shall work a 40-hour workweek during the business hours customary to each TAAC's geographic service region. If TAAC workload demands additional hours or a firm requires additional assistance, the TAAC shall include flexibility in its budget to remain open for the period needed to resolve the workload or firm issues.

b. Consistent Contact with EDA. During each TAAC's customary business hours, EDA must have a direct line contact phone number and e-mail address for each TAAC Director. If the TAAC Director is on official travel status that is being charged to the award, TAAC staff shall be able to provide EDA with contact information for the Director, including the name of the hotel at which the Director is staying and a telephone number at which the Director can be reached.

c. TAAC Facilities and Resources. TAAC facilities and resources shall not be used for any activities inconsistent with the terms and conditions of the award to the TAAC. TAAC offices, addresses, and telephone numbers are not to be listed in any manner that would cause a reasonable person to misconstrue the TAAC office as a residence or other place of business. TAAC employees are prohibited from using the TAAC address for any purpose other than those described in the cooperative agreement and award scope of work. EDA will be the sole interpreter of those provisions.

d. TAAC Staff Training. Each TAAC Director is responsible for training TAAC staff to deliver services to client-firms. When the TAAC Director is absent for any reason, there shall be a TAAC staff member responsible for maintaining consistent TAAC operations in the Director's absence.

e. TAAC Boards and Other Management or Governing Body. The TAAC Director is responsible for ensuring that each member of the TAAC's Board of Directors (or other management or governing body) is aware of EDA's conflicts of interest rules and that actual or apparent conflicts of interest are avoided. If a conflict is discovered, the TAAC Director is responsible for promptly resolving the matter through disqualification, divestiture, waiver or other appropriate measures. See 13 CFR 300.3 (for the definition of “Interested Party”) and 302.17.

2. Travel. A TAAC's travel costs are allowable only to the extent that they are necessary as determined by EDA and otherwise allowable under relevant Office of Management and Budget (OMB) cost principles. A TAAC must provide receipts and documentation of travel-related expenses and any airfare costs must not exceed the customary standard commercial airfare (coach or equivalent). If EDA determines that a TAAC is in persistent noncompliance with the applicable cost principles that govern travel costs, EDA reserves the right to use the reimbursement method to cover all travel costs incurred by the TAAC or to take such other action as EDA deems appropriate.

TAAF Program Promotion: Promoting the TAAF Program helps ensure that a wide variety of trade-impacted firms receive assistance. Therefore, the TAAF Program's status as a federally funded program and EDA as the funding agency must be prominently featured on all public information, including press releases, Web sites, program brochures, and reports released by the TAAC, including APs.

No Obligation for Future Funding: As provided in the Department of Commerce Standard Terms and Conditions for Financial Assistance Awards (May 2007), if an applicant is awarded funding, neither the Department of Commerce nor EDA is under any obligation to provide any additional future funding in connection with that award or to make any future award(s). Amendment or renewal of an award to increase funding or to extend the period of performance is at the sole discretion of the Department of Commerce and of EDA.

Past Performance and Non-Compliance with Award Provisions: Unsatisfactory performance under prior federal awards, such as audit reports with findings of reportable conditions and material weaknesses, may result in an application or a funding period extension not being considered.

Failure to comply with any or all of the provisions of an award may have a negative impact on future funding by the Department of Commerce (or any of its operating units) and may be considered grounds for any combination or all of the following actions: temporarily withholding payments pending correction of the deficiency; disallowance of all or part of the cost of the activity or action not in compliance; wholly or partially suspending or terminating the current award; withholding further awards; changing the method of payment from advance to reimbursement only; or the imposition of other special award conditions unique to the circumstances at hand. See 15 CFR 14.14 and 14.62 or 24.12 and 24.43, as applicable.

Program Teleconferences: EDA headquarters will hold a teleconference to provide general program information and information regarding this program announcement during the week of February 11, 2008. The exact date, time, registration information, and protocols for the teleconference will be provided to participants in advance of the call.

Classification

Paperwork Reduction Act: This document contains collection-of-information requirements subject to the Paperwork Reduction Act (PRA). The use of Standard Forms (SF) SF-424, SF-424A, SF-424B, and SF-LLL, and ED-900A has been approved by OMB under the respective OMB Control Numbers 0348-0043, 0348-0044, 0348-0040, 0348-0046, and 0610-0094. Notwithstanding any other provision of law, no person is required to respond to, nor shall any person be subject to a penalty for failure to comply with, a collection of information subject to the requirements of the PRA unless that collection of information displays a currently valid OMB Control Number.

The Department of Commerce Pre-Award Notification Requirements for Grants and Cooperative Agreements: The administrative and national policy requirements for all Department of Commerce awards, contained in the Department of Commerce Pre-Award Notification Requirements for Grants and Cooperative Agreements (69 FR 78389), are applicable to this program announcement.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comments are not required by the Administrative Procedure Act or any other law for rules concerning grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: January 30, 2008.
Benjamin Erulkar,
Deputy Assistant Secretary of Commerce for Economic Development.

[FR Doc. E8-2133 Filed 2-5-08; 8:45 am]

BILLING CODE 3510-24-P